DEPARTMENT OF THE INTERIOR

Minerals Management Service

Environmental Assessment for Proposed Eastern Gulf of Mexico Lease Sale 181

AGENCY: Minerals Management Service, Interior.

ACTION: Availability of the environmental assessment for proposed Eastern Gulf of Mexico Lease Sale 181.

SUMMARY: The Minerals Management Service (MMS) has prepared an environmental assessment (EA) on the Revised Proposal for Eastern Gulf of Mexico (GOM) Lease Sale 181. The EA was prepared to determine whether there are any new significant issues or environmental impacts that might occur as a result of offering a reduced-area configuration of proposed Eastern Gulf of Mexico OCS Oil and Gas Lease Sale 181, and whether a supplemental environmental impact statement (EIS) should be prepared. The EA implements the “incorporation by reference” process outlined in 40 CFR 1502.21, which encourages agencies to incorporate material by reference to “cut down on the bulk without impeding agency and public review of the action.” Because the recent Final EIS for Lease Sale 181 examined the potential environmental impacts of activities similar to those projected for the Revised Proposal, the EA incorporates much of the material of the Final EIS by reference. The EA, used in conjunction with the Gulf of Mexico OCS Oil and Gas Lease Sale 181 Final Environmental Impact Statement, can be used to compare the types, intensities, and areal extents of the impacts expected to be associated with the original proposed action analyzed in the Final EIS to the impacts expected to be associated with the Revised Proposal examined in the EA.

No new significant impacts were identified for the Revised Proposal that were not already assessed in the Final EIS for Lease Sale 181. The MMS determined that a supplemental EIS is not required and prepared a Finding of No New Significant Impact.

A copy of the EA is available to the public upon request from the Minerals Management Service, Gulf of Mexico OCS Region, Attention: Public Information Office (MS 5034), 1201 Elmwood Park Boulevard, Room 114, New Orleans, Louisiana 70123-2394 or by calling 1-800-200-GULF.

FOR FURTHER INFORMATION CONTACT: Minerals Management Service, Gulf of Mexico OCS Region, 1201 Elmwood Park Boulevard, New Orleans, Louisiana 70123-2394, Ms. Deborah Cranswick, telephone (504) 736-2744.

Dated: October 9, 2001.
Carolita U. Kallaur,
Associate Director for Offshore Minerals Management.

[FR Doc. 01-25747 Filed 10-11-01; 8:45 am]

BILLING CODE 4310-MR-P